SOCIAL SECURITY ADMINISTRATION

[Docket No. SSA-2018-0001]

Privacy Act of 1974; Matching Program

AGENCY: Social Security Administration (SSA).

ACTION: Notice of a new matching program.

SUMMARY: In accordance with the provisions of the Privacy Act, as amended, this notice announces a new matching program with the United States Department of Health and Human Services (HHS), Office of Child Support Enforcement (OCSE).

Under this matching program, OCSE will provide SSA the quarterly wage and unemployment insurance information from the National Directory of New Hires (NDNH) for administration of Title II Disability Insurance (DI). The computer matching agreement governs the use, treatment, and safeguarding of the information exchanged.

SSA will use the quarterly wage information to establish or verify eligibility, continuing entitlement, or payment amounts, or all of the above, of individuals under the DI program. SSA will use the unemployment insurance information to establish or verify eligibility, continuing entitlement, or payment amounts, or all of the above, of individuals under the DI program if SSA is legally required to use the unemployment insurance information for such purposes.

DATES: The deadline to submit comments on the proposed matching program is 30 days from the date of publication in the Federal Register. The matching program will be applicable on June 17, 2018 and will expire on December 18, 2019, or once a minimum of 30 days after publication of this notice has elapsed, whichever is later. The matching program will be in effect for a period of 18 months.

ADDRESSES: Interested parties may comment on this notice by either telefaxing to (410) 966-0869, writing to Mary Ann Zimmerman, Acting Executive Director, Office of Privacy and Disclosure, Office of the General Counsel, Social Security Administration, 617 Altmeyer Building, 6401 Security Boulevard, Baltimore, MD 21235-6401, or emailing Mary.Ann.Zimmerman@ssa.gov. All comments received will be available for public inspection by contacting Ms. Zimmerman at this street address.

FOR FURTHER INFORMATION CONTACT: Interested parties may submit general questions about the matching program to Mary Ann Zimmerman, Acting Executive Director, Office of Privacy and Disclosure, Office of the General Counsel, by any of the means shown above.

SUPPLEMENTARY INFORMATION: None.

Mary Ann Zimmerman,
Acting Executive Director, Office of Privacy and Disclosure, Office of the General Counsel.

PARTICIPATING AGENCIES

SSA and HHS, OCSE

AUTHORITY FOR CONDUCTING THE MATCHING PROGRAM:

The legal authorities for disclosures under this agreement are:

Section 453(j)(4) of the Social Security Act (Act) provides that OCSE shall provide the Commissioner of Social Security with all information in the NDNH.

1. 42 U.S.C. 653(j)(4).

2. Section 224(h)(1) of the Act provides that the head of any Federal agency shall provide information within its possession as the Commissioner of Social Security may require for purposes of making a timely determination of the amount of the reduction, if any, required by section 224 in benefits payable under Title II of the Act. 42 U.S.C. 424a(h).

PURPOSE(S):

This computer matching agreement, hereinafter “agreement,” governs a matching program between OCSE and SSA. OCSE will provide SSA the quarterly wage and unemployment insurance information from the NDNH for administration of Title II DI. This agreement governs the use, treatment, and safeguarding of the information exchanged.

SSA will use the quarterly wage information to establish or verify eligibility, continuing entitlement, or payment amounts, or all of the above, of individuals under the DI program. SSA will use the unemployment insurance information to establish or verify eligibility, continuing entitlement, or payment amounts, or all of the above, of individuals under the DI program if SSA is legally required to use the unemployment insurance information for such purposes.

CATEGORIES OF INDIVIDUALS:

The individuals whose information is involved in this matching program are individuals who are applicants or beneficiaries under the DI program, whose records may be maintained in the NDNH as quarterly wage and unemployment insurance information.

CATEGORIES OF RECORDS:

SSA will provide electronically to OCSE the following data elements in the finder file:

• Individual's Social Security number (SSN)

• Name (first, middle, last)

OCSE will provide electronically to SSA the following data elements from the NDNH in the quarterly wage file:

• Quarterly wage record identifier

• For employees:

(1) Name (first, middle, last)

(2) SSN

(3) Verification request code

(4) Processed date

(5) Non-verifiable indicator

(6) Wage amount

(7) Reporting period

• For employers of individuals in the quarterly wage file of the NDNH:

(1) Name (first, middle, last)

(2) Employer identification number

(3) Address(es)

• Transmitter agency code

• Transmitter state code

• State or agency name

OCSE will provide electronically to SSA the following data elements from the NDNH in the unemployment insurance file if SSA is legally required to use such information for the purposes set forth in the agreement:

• Unemployment insurance record identifier

• Processed date

• SSN

• Verification request code

• Name (first, middle, last)

• Address

• Unemployment insurance benefit amount

• Reporting period

• Transmitter agency code

• Transmitter state code

• State or agency name

SYSTEM(S) OF RECORDS:

SSA and OCSE published notice of the relevant systems of records (SOR)s in the Federal Register. SSA's SORs are the Master Beneficiary Record (MBR), 60-0090 last fully published January 11, 2006 at 71 FR 1826, amended on December 10, 2007 at 72 FR 69723, and amended on July 5, 2013 at 78 FR 40542; and the Completed Determination Record-Continuing Disability Determination file (CDR-CDD), 60-0050 last fully published January 11, 2006 at 71 FR 1813 and amended on December 10, 2007 at 72 FR 69723.

OCSE will match SSA information in the MBR and CDR-CDD against the quarterly wage and unemployment insurance information maintained in the NDNH. The NDNH contains new hire, quarterly wage, and unemployment insurance information furnished by state and federal agencies and is maintained by OCSE in its system of records “OCSE National Directory of New Hires,” No. 09-80-0381, published in the Federal Register at 80 FR 17906 on April 2, 2015. The disclosure of NDNH information by OCSE to SSA constitutes a “routine use,” as defined by the Privacy Act. 5 U.S.C. 552a(b)(3). Routine use (9) of the system of records authorizes the disclosure of NDNH information to SSA for this purpose. 80 FR 17906, 17907 (April 2, 2015).

[FR Doc. 2018-10988 Filed 5-22-18; 8:45 am]

BILLING CODE 4191-02-P